ENVIRONMENTAL PROTECTION AGENCY

[FRL-7071-1]

Agency Information Collection Activities Submission for OMB Review; Comment Request; Cooperative Agreements and Superfund Response Actions

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Cooperative Agreements and Superfund Contracts for Superfund Response Actions, OMB Control Number 2050-0179, expiring September 30, 2001. The ICR describes the nature of the information collection and its expected burden and cost; where appropriate, it includes the actual data collection instrument.

DATES: Comments must be submitted on or before November 1, 2001.

ADDRESSES: Send comments, referencing EPA ICR No. 1487.07 and OMB Control No. 2050-0179, to the following addresses: Sandy Farmer, U.S. Environmental Protection Agency, Collection Strategies Division (Mail Code 2822), 1200 Pennsylvania Avenue, NW, Washington, DC 20460-0001; and to Office of Information and Regulatory Affairs, Office of Management and Budget (OMB), Attention: Desk Officer for EPA, 725 17th Street, NW, Washington, DC 20503.

FOR FURTHER INFORMATION CONTACT: For a copy of the ICR contact Sandy Farmer at EPA by phone at (202) 260-2740, by e-mail at Farmer.sandy@epa.gov, or download off the Internet at http://www.epa.gov/icr and refer to EPA ICR No. 1487.07. For technical questions about the ICR contact Kirby Biggs at 703-573-8717.

SUPPLEMENTARY INFORMATION: Title: Cooperative Agreements and Superfund Contracts for Superfund Response Actions, OMB Control number 2050-0179, EPA ICR number 1487.07, expiring September 30, 2001. This is an extension of a currently approved information collection.

Abstract: This ICR authorizes the collection of information under 40 CFR part 35, subpart O, which establishes the administrative requirements for cooperative agreements funded under the Comprehensive Environmental Response, Compensation, and Liability Act (CERCLA) for State, political subdivisions, and Federally recognized Indian tribal government response actions. This regulation also codifies the administrative requirements for Superfund State Contracts for non-State-lead remedial responses. This regulation includes only those provisions mandated by CERCLA, required by OMB Circulars, or added by EPA to ensure sound and effective financial assistance management. The information is collected from applicants and/or recipients of EPA assistance and is used to make awards, pay recipients, and collect information on how Federal funds are being spent. EPA requires this information to meet its Federal stewardship responsibilities. Recipient responses are required to obtain a benefit (federal funds) under 40 CFR part 31, Uniform Administrative Requirements for Grants and Cooperative Agreements to State and Local Governments' and under 40 CFR part 35, State and Local Assistance.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on May 10, 2001 (66 FR 23921); no comments were received.

Burden Statement: The annual public reporting and record keeping burden for this collection of information is estimated to average 8.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, Local or Tribal Government.

Estimated Number of Respondents: 581.

Frequency of Response: As needed.

Estimated Total Annual Hour Burden: 5115 hours.

Estimated Total Annualized Capital, O&M Cost Burden: $0.

Send comments on the Agency's need for this information, the accuracy of the provided burden estimates, and any suggested methods for minimizing respondent burden, including through the use of automated collection techniques to the addresses listed above. Please refer to EPA ICR No. 1487.07 and OMB Control No. 2050-0179 in any correspondence.

Dated: September 24, 2001.
Oscar Morales,
Director, Collection Strategies Division.

[FR Doc. 01-24597 Filed 10-1-01; 8:45 am]

BILLING CODE 6560-50-P